DEPARTMENT OF COMMERCE

International Trade Administration

Upcoming Secretary-Led International Trade Administration Multi-Sector Trade Mission to China

AGENCY: International Trade Administration, Department of Commerce.

ACTION: Notice.

SUMMARY: The United States Department of Commerce, International Trade Administration, is amending the Notice published at Vol. 82, No. 187 (82 FR 45264, September 28, 2017), the Secretary-Led International Trade Administration Multi-Sector Trade Mission to China, to modify the maximum number of delegation participants, set at 25 U.S. participants, to allow for additional participants on the mission.

SUPPLEMENTARY INFORMATION: Amendments to revise the number of delegation participants.

Background

Based on the high interest in the mission and the significant number of applications received to date, it has been determined that the Department of Commerce may accept more than 25 U.S. firms or trade associations as delegation participants for the Trade Mission to China. The final number of participants will be determined based on the review of applications and the capacity of the Department of Commerce to accommodate additional participants on the delegation. The application deadline remains October 6, 2017. All applications will be assessed according the conditions and criteria that are included in the original Federal Register notice and Mission Statement located on the Web site.

Notice of this change was posted on the Mission Web site (www.export.gov/ChinaMission2017) on Monday, October 2, 2017.

Contacts

General Business and Applications: The Office of Business Liaison, U.S. Department of Commerce, 1401 Constitution Avenue NW., Room 5062, Washington, DC 20230, Phone: +1-202-482-1360, Fax: 202-482-4054, Email: BusinessLiaison@doc.gov.

Tyler Shields: Director, The Office of China and Mongolia, U.S. Department of Commerce, 1401 Constitution Avenue NW., Room 38013, Washington, DC 20230, Phone: +1-202-482-3544, Email: tyler.shields@trade.gov.

Frank Spector,
Senior Advisor for Trade Missions.

[FR Doc. 2017-21565 Filed 10-4-17; 8:45 am]

BILLING CODE 3510-DR-P